DEPARTMENT OF ENERGY

Federal Energy Regulatory Commission

[Docket No. AD06-6-000]

Notice of Joint Meeting of the Nuclear Regulatory Commission and the Federal Energy Regulatory Commission

The Federal Energy Regulatory Commission (FERC) and the Nuclear Regulatory Commission (NRC) will hold a joint meeting on Friday, June 15, 2012 at the headquarters of the Federal Energy Regulatory Commission. The meeting is expected to begin at 9:30 a.m. and conclude at 11:30 a.m. Eastern Time. Commissioners from both agencies are expected to participate.

The NRC and FERC signed a Memorandum of Agreement (MOA) in September 2010 to facilitate interactions between the two agencies on matters of mutual interest pertaining to the nation's bulk power system reliability. The June 15 meeting will continue the ongoing discussion to address grid reliability and the roles of the respective agencies in addressing this issue.

This meeting/conference will be transcribed. Transcripts of the meeting/conference will be immediately available for a fee from Ace-Federal Reporters, Inc. (202-347-3700 or 1-800-336-6646). A free webcast of the meeting/conference is also available through www.ferc.gov. Anyone with Internet access who desires to listen to this event can do so by navigating to www.ferc.gov's Calendar of Events and locating this event in the Calendar. The event will contain a link to its webcast. The Capitol Connection provides technical support for the webcasts and offers the option of listening to the meeting via phone-bridge for a fee. If you have any questions, visit www.CapitolConnection.org or call 703-993-3100.

FERC meetings are accessible under section 508 of the Rehabilitation Act of 1973. For accessibility accommodations please send an email to accessibility@ferc.gov or call toll free (866) 208-3372 (voice) or (202) 502-8659 (TTY), or send a fax to (202) 208-2106 with the requested accommodations.

All interested persons are invited. Pre-registration is not required and there is no fee to attend this joint meeting. Questions about the meeting should be directed to Sarah McKinley at Sarah.McKinley@ferc.gov or by phone at 202-502-8004.

Dated: June 4, 2012.
Kimberly D. Bose,
Secretary.

[FR Doc. 2012-14021 Filed 6-8-12; 8:45 am]

BILLING CODE 6717-01-P